DEPARTMENT OF TRANSPORTATION

Federal Aviation Administration

Public Notice for Intent To Release Airport Property

AGENCY: Federal Aviation Administration (FAA), DOT.

ACTION: Notice of intent to rule on request to release airport property for non-aeronautical use; Barrow Airport (BRW), Utqiavik, Alaska.

SUMMARY: The FAA proposes to rule and invites public comment on the release of land at the Barrow Airport, Utqiavik, Alaska.

DATES: Comments must be received on or before October 20, 2025.

ADDRESSES: Documents are available for review by appointment at the FAA Anchorage Airports Regional Office, Molly Fierro, Compliance Manager, 222 W 7th Avenue, Anchorage, AK. Telephone: (907) 271-5439/Fax: (907) 271-2851 and the Alaska Dept. of Transportation and Public Facilities, 2301 Peger Rd., Fairbanks, AK 99709. Telephone: (907) 451-5201.

Written comments on the Sponsor's request must be delivered or mailed to: Molly Fierro, Compliance Manager, Federal Aviation Administration, Airports Anchorage Regional Office, 222 W 7th Avenue, Anchorage, AK 99513, Telephone Number: (907) 271-5439/FAX Number: (907) 271-2851.

FOR FURTHER INFORMATION CONTACT: Molly Fierro, Compliance Manager, Federal Aviation Administration, Alaskan Region Airports District Office, 222 W 7th Avenue, Anchorage, AK 99513. Telephone Number: (907) 271-5439/FAX Number: (907) 271-2851.

SUPPLEMENTARY INFORMATION: The FAA invites public comment on the request to release all grant obligations for 2.09 acres of airport property at the Barrow Airport (BRW) under the provisions of 49 U.S.C. 47107(h)(2). The Alaska Department of Transportation and Public Facilities has requested from the FAA that a portion of airport property be released from FAA grant obligations to facilitate construction of a community seawall to be maintained by the North Slope Borough. The FAA has determined that the release of the property will not impact future aviation needs at the airport. The FAA may approve the request, in whole or in part, no sooner than 30 days after the publication of this notice.

The release of federal obligations for the seawall is being proposed for no fee. The airport will benefit from the seawall and the in-kind benefit is in accordance with FAA's Policy and Procedures Concerning the Use of Airport Revenue, published in the Federal Register on February 16, 1999 (64 FR 7696).

Issued in Anchorage, Alaska, on September 16, 2025.
Katrina Moss,
Acting Director, Alaskan Airports Regional Office FAA, Alaskan Region.

[FR Doc. 2025-18135 Filed 9-18-25; 8:45 am]

BILLING CODE 4910-13-P